DEPARTMENT OF THE INTERIOR

Bureau of Land Management

[LLCOS05000 L1010 PH]

Notice of Public Meeting, BLM Colorado Southwest Resource Advisory Council Meeting; Correction

AGENCY: Bureau of Land Management, Interior.

ACTION: Notice of public meeting; Correction.

SUMMARY: The Bureau of Land Management (BLM) published a document in the Federal Register of April 3, 2009, notifying the public regarding meeting dates and locations for the BLM Colorado Southwest Resource Advisory Council (RAC). The location of the August 28, 2009 meeting was incorrect.

FOR FURTHER INFORMATION CONTACT: Barbara Sharrow, BLM Uncompahgre Field Manager, 2505 S. Townsend Ave., Montrose, CO 81401, 970-240-5300; or Erin Curtis, Public Affairs Specialist, 2815 H Rd., Grand Junction, CO 81506, 970-244-3097.

Correction

In the Federal Register of April 3, 2009, FR Doc. E9-7606, on page 15519, the second column, correct the ADDRESSES caption to read:

ADDRESSES: The Southwest Colorado RAC meetings will be held May 29, 2009, in Dolores, CO, at the Anasazi Heritage Center, 27501 Highway 184, Dolores, CO 81323; August 28, 2009, at the Mary Stigall Theater in the Mosley Arts Center, 304 Silver Street in Lake City, CO 81235; and November 6, 2009, in Delta, CO at the Bill Heddles Recreation Center, 530 Gunnison River Drive, Delta, CO 81416. Field trips will be conducted to appropriate sites the day before each scheduled meeting. All Southwest Colorado RAC meetings will begin at 9 a.m. and adjourn at approximately 4 p.m., with public comment periods regarding matters on the agenda at 2:30 p.m.

Barbara Sharrow,
Designated Federal Official.

[FR Doc. E9-18215 Filed 7-29-09; 8:45 am]

BILLING CODE P